DEPARTMENT OF THE TREASURY

Customs Service

Performance Review Board—Appointment of Members

AGENCY: U.S. Customs Service, Department of the Treasury.

ACTION: General Notice.

SUMMARY: This notice announces the appointment of the members of the United States Customs Service Performance Review Boards (PRB's) in accordance with 5 U.S.C. 4314(c)(4). The purpose of the PRB's is to review senior executives' performance appraisals and to make recommendations regarding performance appraisals and performance awards.

EFFECTIVE DATE: October 1, 2000.

FOR FURTHER INFORMATION CONTACT: Robert M. Smith, Assistant Commissioner, Human Resources Management, United States Customs Service, 1300 Pennsylvania Avenue, NW, Room 2.4-A, Washington, DC 20229; Telephone (202) 927-1250.

Background

There are two (2) PRB's in the U.S. Customs Service.

Performance Review Board 1

The purpose of this Board is to review the performance appraisals of senior executives rated by the Commissioner of Customs. The members are:

Donnie Carter, Deputy Assistant Director, Criminal Enforcement Field Operations, East, Bureau of Alcohol, Tobacco and Firearms, Department of the Treasury

Anna Fay Dixon, Director, Office of Finance and Administration, Office of the Under Secretary for Enforcement, Department of the Treasury

Jane Sullivan, Director, Office of Information Resources Management, Department of the Treasury

Kenneth Papaj, Deputy Commissioner, Financial Management Service, Department of the Treasury

Jackquelyn Fletcher, Associate Director/CIO, U.S. Mint, Department of the Treasury

Performance Review Board 2

The purpose of this Board is to review the performance appraisals of all senior executives except those rated by the Commissioner of Customs. The members are:

William F. Riley, Director, Office of Planning, Office of the Commissioner

Assistant Commissioners:

Douglas M. Browning, International Affairs

Marjorie L. Budd, Training and Development

S.W. Hall, Information and Technology/CIO

C. Wayne Hamilton, Finance/CFO

William A. Keefer, Internal Affairs

Stuart P. Seidel, Regulations and Rulings

Robert M. Smith, Human Resources Management

Lance S. Statler, Congressional Affairs

Bonni G. Tischler, Field Operations

Dated: October 2, 2000.
Raymond W. Kelly,
Commissioner of Customs.

[FR Doc. 00-25663 Filed 10-5-00; 8:45 am]

BILLING CODE 4820-02-P